DEPARTMENT OF THE INTERIOR

Fish and Wildlife Service

Endangered Species Permit Applications

AGENCY: Fish and Wildlife Service, Interior.

ACTION: Notice of receipt of permit applications.

SUMMARY: The following applicants have applied for a scientific research permit to conduct certain activities with endangered species pursuant to section 10(a)(1)(A) of the Endangered Species Act of 1973, as amended (16 U.S.C. 1531 et seq.).

Permit No. TE-038221

Applicant: Central Nebraska Public Power and Irrigation District, Gothenburg, Nebraska.

The applicant requests a permit to take American burying beetles (Nicrophorus americanus) in conjunction with recovery activities throughout the species' range for the purpose of enhancing survival and recovery.

Permit No. TE-038344

Applicant: Turner Endangered Species Fund, Atlanta, Georgia.

The applicant requests a permit to take gray wolves (Canis lupus) throughout the species' range in conjunction with recovery activities for the purpose of enhancing species survival and recovery.

Permit Nos. TE-038450, TE-038460, TE-038461, TE-038463-038469, and TE-038471-384501

Applicant: Forty private landowners, Montana and central Idaho.

The applicants request a permit to take gray wolves (Canis lupus) in the nonessential experimental population area of Montana and central Idaho to reduce conflicts with livestock operations for the purpose of enhancing species survival and recovery.

Permit No. TE-038510

Applicant: City of Wichita, Wichita, Kansas.

The applicant requests a permit to take Arkansas River shiners (Notropis girardi) in conjunction with recovery activities throughout the species' range for the purpose of enhancing survival and recovery.

Permit No. TE-038527

Applicant: Scott Campbell, Kansas Biological Survey, Lawrence, Kansas.

The applicant requests a permit to take Topeka shiners (Notropis topeka) in conjunction with recovery activities throughout the species' range for the purpose of enhancing survival and recovery.

Permit No. TE-038530

Applicant: Mike Fitzgerald, Ecosphere Environmental Services, Durango, Colorado.

The applicant requests a permit to take southwest willow flycatchers (Empidonax traillii extimus) in conjunction with recovery activities throughout the species' range for the purpose of enhancing survival and recovery.

Permit No. 704930

Applicant: Assistant Regional Director, Ecological Services, Region 6, U.S. Fish and Wildlife Service, Denver, Colorado.

The permittee requests renewal of this current permit for take activities for all listed species in the States of Colorado, Kansas, Montana, Nebraska, North Dakota, South Dakota, Utah, and Wyoming. This permit possessed by the Regional Director allows Fish and Wildlife Service employees and subpermittees to lawfully conduct threatened or endangered species activities, in conjunction with recovery activities throughout the species' range for the purpose of enhancing survival and recovery as outlined in Fish and Wildlife Service employee's position descriptions.

Written data or comments in regard to the applications should be sent to the address provided below. Documents and other information submitted in conjunction with this application are available for review, subject to the requirements of the Privacy Act and Freedom of Information Act, by any party who submits a written request for a copy of such documents to the following office within 30 days of the date of publication of this notice—U.S. Fish and Wildlife Service, P.O. Box 25486, Denver Federal Center, Denver, Colorado 80225-0486 (Attn: ARD-Ecological Services); phone (303) 236-7400 or fax (303) 236-0027.

Dated: March 2, 2001.
John A. Blankenship,
Regional Director, Denver, Colorado.

[FR Doc. 01-5806 Filed 3-8-01; 8:45 am]

BILLING CODE 4310-55-P